FEDERAL DEPOSIT INSURANCE CORPORATION

Notice of the Termination of the Receivership of 10321, Community National Bank, Lino Lakes, Minnesota

The Federal Deposit Insurance Corporation (“FDIC”), as Receiver for 10321, Community National Bank, Lino Lakes, Minnesota (“Receiver”), has been authorized to take all actions necessary to terminate the receivership estate of Community National Bank (“Receivership Estate”); the Receiver has made all dividend distributions required by law. The Receiver has further irrevocably authorized and appointed FDIC-Corporate as its attorney-in-fact to execute and file any and all documents that may be required to be executed by the Receiver which FDIC-Corporate, in its sole discretion, deems necessary; including but not limited to releases, discharges, satisfactions, endorsements, assignments and deeds. Effective November 1, 2016, the Receivership Estate has been terminated, the Receiver discharged, and the Receivership Estate has ceased to exist as a legal entity.

Dated: November 4, 2016.
Federal Deposit Insurance Corporation.
Valerie J. Best,
Assistant Executive Secretary.

[FR Doc. 2016-27084 Filed 11-8-16; 8:45 am]

BILLING CODE 6714-01-P